DEPARTMENT OF HEALTH AND HUMAN SERVICES

Administration for Children and Families

Submission for Office of Management and Budget Review; Services for Unaccompanied Children With Disabilities (New Collection)

AGENCY: Office of Refugee Resettlement, Administration for Children and Families, U.S. Department of Health and Human Services.

ACTION: Request for public comments.

SUMMARY: The Office of Refugee Resettlement (ORR), Administration for Children and Families (ACF), U.S. Department of Health and Human Services is inviting public comment on the proposed collection. The request consists of one form that will allow the Unaccompanied Children (UC) Bureau to provide services to unaccompanied children identified as having a disability.

DATES: Comments due May 29, 2025. The Office of Management and Budget (OMB) must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: The ORR UC Bureau is proposing a new form, the Individualized Section 504 Service Plan (Form S-25). The proposed information collection is necessary to allow the ORR UC Bureau to comply with a court order and improve service delivery for unaccompanied children identified as having a disability. On June 29, 2018, Plaintiffs filed their federal class action lawsuit in the Central District of California, western division, captioned Lucas R. et al. v. Becerra et al. (Case No. 2:18-CV-05741 DMG PLA), asserting claims under the Flores Consent Decree, the Trafficking Victims Protection Reauthorization Act, the Due Process clause, and the First Amendment. Plaintiffs allege violation of unaccompanied children rights in decisions regarding family reunification, placement in restrictive facilities, services for children with disabilities, administration of psychotropic medication, and access to legal assistance. On May 3, 2024, the Court granted final approval for the settlement agreements of the Plaintiffs' claims for disabilities, psychotropic medication, and legal assistance. As part of the settlement agreement for the disabilities claim, ORR is required to develop and implement individualized Section 504 service plans for any child identified as having a disability. The disabilities settlement agreement must be fully implemented by May 3, 2025.

Respondents: Care provider grantees and contractors

Annual Burden Estimates
Form | Annual number of respondents | Number of responses per respondent | Average burden hours per response | Total annual burden hours
Individual Section 504 Service Plan (Form S-25) | 300 | 7 | 3 | 6,300

Authority: 6 U.S.C. 279; 8 U.S.C. 1232; 45 CFR 410; Flores v. Reno Settlement Agreement, No. CV85-4544-RJK (C.D. Cal. 1996); Lucas R. et al v. Becerra et al (Case No. 2:18-CV-05741 DMG PLA) Disabilities Settlement Agreement.

Mary C. Jones,
ACF/OPRE Certifying Officer.

[FR Doc. 2025-07371 Filed 4-28-25; 8:45 am]

BILLING CODE 4184-45-P